COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List services to be furnished by nonprofit agencies employing persons who are blind or have other severe disabilities, and to delete commodities previously furnished by such agencies.

Comments Must be Received on or Before: July 9, 2001.

ADDRESSES: Committee for Purchase From People Who Are Blind or Severely Disabled, Jefferson Plaza 2, Suite 10800, 1421 Jefferson Davis Highway, Arlington, Virginia 22202-3259.

FOR FURTHER INFORMATION CONTACT: Patrick T. Mooney (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed addition, the entities of the Federal Government identified in this notice for each service will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information. The following services have been proposed for addition to Procurement List for production by the nonprofit agencies listed:

Services

Food Service Attendant

Alabama Air National Guard

HQ 117th Air Refueling Wing

Birmingham, Alabama

NPA: Alabama Goodwill Industries, Inc. Birmingham, Alabama

Food Service Attendant

Indiana Air National Guard

Hulman International Airport

Terre Haute, Indiana

NPA: Child-Adult Resource Services, Inc. Rockville, Indiana

Solid Waste Management Service

Basewide

Fort Hood, Texas

NPA: Disability Employment Opportunity, Inc. San Antonio, Texas

Deletions

I certify that the following action will not have a significant impact on a substantial number of small entities. The major factors considered for this certification were:

1. The action will not result in any additional reporting, recordkeeping or other compliance requirements for small entities.

2. The action will result in authorizing small entities to furnish the services to the Government.

3. There are no known regulatory alternatives which would accomplish the objectives of the Javits-Wagner-O'Day Act (41 U.S.C. 46-48c) in connection with the services proposed for deletion from the Procurement List.

The following commodities have been proposed for deletion from the Procurement List:

Commodities

Bag, Cargo

1670-01-065-3748

Winterization Kit

4240-00-065-0319

Cap—Operating, Surgical

6532-00-083-6545

Original and Duplicate Microfiche, Program 1566-S

7690-00-NSH-0018

Lacquer

8010-00-085-0559

Box, Wood, Fiberboard

8115-00-L01-0679

8115-00-L01-0680

8115-00-L01-0681

Bag, Garment

8460-00-883-8673

Mask, Extreme Cold Weather

8415-01-006-3468

8415-01-181-1398

Patrick T. Mooney,
Director, Pricing and Program Operations.

[FR Doc. 01-14507 Filed 6-7-01; 8:45 am]

BILLING CODE 6353-01-P